DEPARTMENT OF THE INTERIOR

Fish and Wildlife Service

Notice of Availability, Draft Restoration Plan

AGENCY: U.S. Fish and Wildlife Service, Department of the Interior.

ACTION: Notice of availability.

SUMMARY: The U.S. Fish and Wildlife Service (Service), on behalf of the Department of the Interior (DOI) as the sole natural resource trustee, announces the release for public review of the Draft Restoration Plan (RP) for the Cortese Landfill Superfund Site (Site). As a result of remedial activities and the off-site migration of Site-related contaminants, 1.6 acres of wetland were destroyed and/or degraded. Adversely affected natural resources include waterfowl, wading birds, hawks, woodpeckers, swallows, migratory songbirds, invertebrates, reptiles, and amphibians. In addition, the section of the Upper Delaware River watershed near the Site hosts the largest population of wintering bald eagles in the Northeast. The embayment provides feeding and/or spawning habitat for forage fish, American shad, striped bass, and American eel. The funds available from this settlement for restoration activities total approximately $85,000. The restoration project proposed in the Draft RP involves wet meadow/wetland restoration and protection.

The Draft RP presents a preferred alternative consisting of a restoration project that compensates for impacts to natural resources caused by contaminant releases and remedial activities associated with the Site.

DATES: Written comments must be submitted on or before July 19, 2006.

ADDRESSES: Requests for copies of the Draft RP may be made to: U.S. Fish and Wildlife Service, New York Field Office, 3817 Luker Road, Cortland, New York 13045.

Written comments or materials regarding the Draft RP should be sent to the same address.

FOR FURTHER INFORMATION CONTACT: Ken Karwowski, Environmental Contaminants Program, U.S. Fish and Wildlife Service, New York Field Office, 3817 Luker Road, Cortland, New York 13045. Interested parties may also call 607-753-9334 or e-mail Ken_Karwowski@fws.gov for further information.

SUPPLEMENTARY INFORMATION: In May 1996, a natural resource damage settlement was achieved for the Site. The Service, on behalf of the DOI, was the sole settling Trustee. The funds available from the settlement for restoration activities total approximately $85,000.

The Draft RP is being released in accordance with the CERCLA of 1980 as amended, commonly known as Superfund (42 U.S.C. 9601 et seq.), the Natural Resource Damage Assessment Regulations found at 43 CFR, part 11, and the National Environmental Policy Act. It is intended to describe the Trustee's proposal to restore natural resources injured at the Site and evaluate the potential impacts of the project.

The Draft RP describes a number of habitat restoration and protection alternatives and discusses the environmental consequences of each. The restoration effort with the greatest potential to restore natural resources and services that were injured by contaminants or remedial activities is preferred. Based on an evaluation of the various restoration alternatives, the preferred alternative consists of a restoration project involving wet meadow/wetland restoration and protection.

Interested members of the public are invited to review and comment on the Draft RP. Copies of the Draft RP are available for review at the Service's New York Field Office at 3817 Luker Road, Cortland, New York. Additionally, the Draft RP will be available for review at the following Web site link: http://nyfo.fws.gov/ec/CorteseDRP.pdf. Written comments will be considered and addressed in the final RP/Environmental Assessment at the conclusion of the restoration planning process.

Author: The primary author of this notice is Ken Karwowski, U.S. Fish and Wildlife Service, New York Field Office, 3817 Luker Road, Cortland, New York 13045.

Authority: The authority for this action is the CERCLA of 1980 as amended, commonly known as Superfund, (42 U.S.C. 9601 et seq.), and the Natural Resource Damage Assessment Regulations found at 43 CFR, part 11.

Dated: June 5, 2006.
Kathleen Bangert,
Acting Regional Director, Region 5, U.S. Fish and Wildlife Service, U.S. Department of the Interior, DOI Authorized Official.

[FR Doc. E6-9567 Filed 6-16-06; 8:45 am]

BILLING CODE 4310-55-P